DEPARTMENT OF TRANSPORTATION

Federal Railroad Administration

[Docket No. FRA-2020-0027-N-34]

Agency Request for Emergency Processing of Collection of Information by the Office of Management and Budget

AGENCY: Federal Railroad Administration (FRA), Department of Transportation (DOT).

ACTION: Notice.

SUMMARY: Consistent with the Paperwork Reduction Act of 1995 and its implementing regulations, this document provides notice that FRA is submitting the following Information Collection Request to the Office of Management and Budget (OMB) to collect information on ridership data and certified schedule metrics as required by the recently issued final rule on Metrics and Minimum Standards for Intercity Passenger Rail Service. FRA requests emergency processing and OMB authorization to collect the information after publication of this Notice for a period of six (6) months.

FOR FURTHER INFORMATION CONTACT: Ms. Kim Toone, Information Collection Clearance Officer, by email: Kim.Toone@dot.gov or by telephone: (202) 493-6192.

SUPPLEMENTARY INFORMATION: On October 16, 2008, President George W. Bush signed the Passenger Rail Investment and Improvement Act of 2008, Public Law 110-432, 122 Stat. 4907 (PRIIA) into law. Section 207 of PRIIA requires FRA and Amtrak jointly to develop new or improved metrics and minimum standards for measuring the performance and service quality of intercity passenger train operations, including cost recovery, on-time performance and minutes of delay, ridership, on-board services, stations, facilities, equipment, and other services.

Section 207 also calls for consultation with the Surface Transportation Board, rail carriers over whose rail lines Amtrak trains operate, States, Amtrak employees, and groups representing Amtrak passengers, as appropriate.

Section 207 further provides that the metrics, at a minimum, must include: The percentage of avoidable and fully allocated operating costs covered by passenger revenues on each route; ridership per train mile operated; measures of on-time performance and delays incurred by intercity passenger trains on the rail lines of each rail carrier; and, for long-distance routes, measures of connectivity with other routes in all regions currently receiving Amtrak service and the transportation needs of communities and populations that are not well-served by other forms of intercity transportation.

Section 207 also provides that the FRA Administrator must collect the necessary data and publish a quarterly report on the performance and service quality of intercity passenger train operations, including Amtrak's cost recovery, ridership, on-time performance and minutes of delay, causes of delay, on-board services, stations, facilities, equipment, and other services.

In connection with the Congressional mandate, FRA's Metrics and Minimum Standards for Intercity Passenger Rail Service final rule ¹ sets forth a number of metrics. This emergency information request is for only two (2) of those metrics. A separate information collection request will be published at a later date, covering all information collections required under the final rule, which includes Amtrak reporting data to FRA associated with a total 17 of these metrics on a quarterly basis and 4 on an annual basis.

¹ 85 FR 72971.

As provided under 5 CFR 1320.13, FRA is requesting emergency processing for Section 273.5(b) Ridership data metrics and 273.5(c) Certified schedule metrics. FRA cannot reasonably comply with normal clearance procedures since they would be reasonably likely to disrupt the function of the rule. As required by 49 CFR part 273, Section 273.5(b), Amtrak is expected to begin reporting to FRA on the Ridership data metric in December 2020 and then by the 15th day of each month thereafter. As required by 49 CFR 273, Section 273.5(c), Amtrak is also expected to begin reporting to FRA on the Certified schedule metric on December 16, 2020, and then subsequently report monthly for six months, again in November 2021, and then every 12 months thereafter. Therefore, FRA cannot wait the typical 60-day period for public comment. Accordingly, FRA is requesting OMB approval as soon as possible (i.e., 5 business days after publication of this Notice) for this collection of information.

The associated collection of information is summarized below.

Title: Metrics and Minimum Standards for Intercity Passenger Rail Service.

Reporting Burden:

CFR section | Respondent universe | Total annual responses | Average time per responses (hour) | Total annual burden hours | Total cost equivalent ²
273.5(b)—Ridership data | 1 railroad | 12 | 1 | 22 hours (10 hour start-up burden + average response time) | $1,704
273.5(c)—Certified schedule | 1 railroad | 7 | 1 | 27 hours (20 hour start-up burden + average response time) | 2,092
Total | 1 railroad | 19 | 1 | 49 hours | 3,796

² The total cost equivalent is derived from the Surface Transportation Board's Full Year Wage A&B data series using the appropriate employee group hourly wage rate that includes a 75-percent overhead charge.

Form Numbers: n/a.

Respondent Universe: 1 (Amtrak).

Frequency of Submission: varied; monthly; yearly.

Total Annual Responses: 19.

Total Estimated Annual Burden: 49 hours.

Total Cost Equivalent: $3,796.

Under 44 U.S.C. 3507(a) and 5 CFR 1320.5(b) and 1320.8(b)(3)(vi), FRA informs all interested parties that a respondent is not required to respond to, conduct or sponsor a collection of information unless it displays a currently valid OMB control number.

Authority: 44 U.S.C. 3501-3520.

Brett A. Jortland,
Deputy Chief Counsel.

[FR Doc. 2020-25835 Filed 11-20-20; 8:45 am]

BILLING CODE 4910-06-P